DEPARTMENT OF VETERANS AFFAIRS

[OMB Control No. 2900-New (10-0478)]

Agency Information Collection (Health-Care Use Survey for Enduring Freedom and Operation Iraqi Freedom (OEF/OIF) Veterans) Activity Under OMB Review

AGENCY: Veterans Health Administration, Department of Veterans Affairs.

ACTION: Notice.

SUMMARY: In compliance with the Paperwork Reduction Act (PRA) of 1995 (44 U.S.C. 3501-3521), this notice announces that the Veterans Health Administration, Department of Veterans Affairs, will submit the collection of information abstracted below to the Office of Management and Budget (OMB) for review and comment. The PRA submission describes the nature of the information collection and its expected cost and burden and includes the actual data collection instrument.

DATE: Comments must be submitted on or before February 8, 2010.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-0478)” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-New (10-0478).”

SUPPLEMENTARY INFORMATION: Title: Health-Care Use Survey for Enduring Freedom and Operation Iraqi Freedom (OEF/OIF) Veterans.

OMB Control Number: 2900-New (10-0478).

Type of Review: New collection.

Abstract: The data collected will be used to better understand the factors that impact Operation Enduring Freedom (OEF) and Operation Iraqi Freedom (OIF) veterans' use of healthcare services, both within and outside of the VA.

The objectives of the study are to: (1) Examine the stigma-related barriers to VA health care; (2) document unique barriers to VA care for women and men; and (3) provide reliable and valid measures of barriers to care that can be used by other researchers to study factors that influence veterans' health care behaviors.

An agency may not conduct or sponsor, and a person is not required to respond to a collection of information unless it displays a currently valid OMB control number. The Federal Register Notice with a 60-day comment period soliciting comments on this collection of information was published on November 4, 2009, at page 57221.

Affected Public: Individuals or households.

Estimated Annual Burden: 1,058.

Estimated Average Burden per Respondent: 45 minutes.

Frequency of Response: Annually.

Estimated Number of Respondents: 1,410.

Dated: January 5, 2010.
By direction of the Secretary:
Denise McLamb,
Program Analyst, Enterprise Records Service.

[FR Doc. 2010-123 Filed 1-7-10; 8:45 am]

BILLING CODE 8320-01-P